DEPARTMENT OF LABOR

Employment and Training Administration

[TA-W-40,498]

Precision Twist Drill Co., Rhinelander, WI; Notice of Negative Determination Regarding Application for Reconsideration

By application dated June 10, 2002, the United Steelworkers of America, District-2, Local 9408 requested administrative reconsideration of the Department's negative determination regarding eligibility to apply for Trade Adjustment Assistance (TAA), applicable to workers and former workers of the subject firm. The denial notice was signed on May 7, 2002, and published in the Federal Register on May 17, 2002 (67 FR 35140).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Precision Twist Drill Co., Rhinelander, Wisconsin was denied because the “contributed importantly” group eligibility requirement of Section 222(3) of the Trade Act of 1974, as amended, was not met. The “contributed importantly” test is generally demonstrated through a survey of customers of the workers' firm. The survey revealed that none of the respondents increased their purchases of imported twist drill bits, while decreasing their purchases from the subject firm during the relevant period. The investigation also revealed that Precision Twist Drill Co., Rhinelander, Wisconsin did not import articles “like or directly competitive” with the products produced at the subject plant. The separations at the subject plant were due to a transfer of plant production to another domestic facility.

The petitioner supplied additional information based on a company announcement dated April 25, 2002 indicating that the Rhinelander facility would close down and approximately two-thirds of the blank drill bit production would be manufactured overseas.

Based on data supplied during the initial investigation and further contact with the company, the shifts in plant production did not occur during the relevant period of the investigation. The shift in the production of blank drill bits to foreign sources began during July 2002. Any potential future company imports of blank drill bits are beyond the relevant period of the initial investigation.

The petitioner further alleges the subject plant once manufactured drills for Boeing and that production was shifted to Crystal Lake, Illinois. Since then, the company indicated they would shift that production to Brazil.

Recent information provided by the company indicates that the product (special drill bits) produced for Boeing was never produced at the subject plant. Therefore, the shift in production to Brazil by the Crystal Lake plant is not a relevant factor that is considered in meeting the “contributed importantly” group eligibility requirement of Section 222(3) of the Trade Act of 1974, as amended.

Conclusion

After review of the application and investigative findings, I conclude that there has been no error or misinterpretation of the law or of the facts which would justify reconsideration of the Department of Labor's prior decision. Accordingly, the application is denied.

Signed at Washington, DC this 11th day of July 2002.
Edward A. Tomchick,
Director, Division of Trade Adjustment Assistance.

[FR Doc. 02-18643 Filed 7-23-02; 8:45 am]

BILLING CODE 4510-30-P